DEPARTMENT OF TRANSPORTATION

Federal Railroad Administration

Notice of Availability of an Environmental Assessment for the Proposed Hudson Yards Concrete Casing Project in New York, New York

AGENCY: Federal Railroad Administration (FRA), United States Department of Transportation (USDOT).

ACTION: Notice of Availability of Environmental Assessment for the Hudson Yards Concrete Casing Construction.

SUMMARY: This notice advises the public that the National Railroad Passenger Corporation (Amtrak) has prepared an Environmental Assessment (EA) in coordination with Federal Railroad Administration (FRA) for the construction of an underground concrete casing to preserve a right-of-way (ROW) (the proposed Project) for the future expansion of rail service between New Jersey and New York and to support Amtrak's efforts to improve the resiliency of the rail system in the Northeast Corridor (NEC) to address future disasters. Amtrak anticipates constructing the proposed Project using Federal funding and, as the proposed Project sponsor, would design and construct the underground concrete casing. In accordance with the National Environmental Policy Act of 1969, the Council on Environmental Quality regulations to implement NEPA, the FRA's “Procedures for Considering Environmental Impacts”, the EA examines the potential environmental impacts of constructing an underground concrete casing in the Hudson Yards rail yard in New York, NY (Hudson Yards).

FOR FURTHER INFORMATION CONTACT: Please submit written comments on the EA to Michelle W. Fishburne, USDOT, Federal Railroad Administration, Office of Railroad Policy and Development, 1200 New Jersey Avenue SE., W36-428, Washington, DC 20590 or via email at michelle.fishburne@dot.gov.

DATES: Written comments on the EA will be accepted on or before April 29, 2013.

ADDRESSES: The EA is available for review at the FRA Office of Railroad Policy and Development at the address listed above and locally at the New York Public Library, Fifth Avenue at 42nd Street, New York, NY10018-2788; Phone (212) 275-6975. The EA is also available for review on the FRA Web site at http://www.fra.dot.gov/Page/P0214 .

SUPPLEMENTARY INFORMATION: Amtrak proposes to construct an underground concrete casing to preserve a ROW underneath Hudson Yards for the future expansion of rail service between New Jersey and New York and to support Amtrak's efforts to improve the resiliency of the rail system to address future disasters in the NEC.

Construction of the Project is proposed at this time because a real estate development corporation (Developer), through an agreement with the Metropolitan Transportation Authority (MTA) and the Long Island Railroad (LIRR), has begun constructing a development in the area above Hudson Yards (referred to as the Overbuild Project). The Developer has all necessary local and state approvals for the Overbuild Project and started construction in the southern portion of Hudson Yards, south of the proposed Project site, in December 2012. Amtrak proposes to construct the underground concrete casing in conjunction with the Overbuild Project in order to preserve an underground ROW as a viable location for a future tunnel into New York's Penn Station. If the Developer builds the immense foundations and platform for the Overbuild Project, the ROW underneath the Overbuild Project would be permanently lost as an alignment for a new tunnel entering Penn Station from the west.

In accordance with the National Environmental Policy Act, 42 U.S.C. § 4321 et seq., (NEPA), the Council on Environmental Quality (CEQ) regulations (40 CFR parts 1500-1508), and FRA's “Procedures for Considering Environmental Impacts,” 64 FR 28545 (May 26, 1999) and 78 FR 2713 (Jan. 14, 2013), (FRA's Environmental Procedures), Amtrak prepared the EA in coordination with FRA, MTA and LIRR and analyzed the potential environmental impacts of the two alternatives for the proposed Project: “No Action” and “Construct a Concrete Casing.”

FRA is publishing this notice to solicit public comments prior to making a final NEPA determination on the proposed Project. The review period for the EA shall extend to May 1, 2013. FRA will review the comments in accordance with NEPA, CEQ regulations, and FRA's Environmental Procedures. If FRA determines the proposed Project will not have any foreseeable significant environmental impacts, FRA will issue a Finding of No Significant Impact (FONSI) describing the agency's decision and the basis for it. Any FONSI issued by FRA will be consistent with 40 CFR 1508.13 and section 11 of FRA's Environmental Procedures (64 FR at 28551).

Issued in Washington, DC, on March 28, 2013.
Corey Hill,
Director, Office of Passenger and Freight Programs.

[FR Doc. 2013-07661 Filed 4-2-13; 8:45 am]

BILLING CODE 4910-06-P